CORPORATION FOR NATIONAL AND COMMUNITY SERVICE

Notice Concerning Request for Public Input on 2003 Administrative and Program Guidance

AGENCY: Corporation for National and Community Service.

ACTION: Notice.

SUMMARY: The Corporation for National and Community Service (hereinafter the “Corporation”) is requesting input from the public concerning the 2003 program and administrative guidance that will be issued in October, 2002. This guidance will set forth the policies, procedures, and timelines that govern the allocation of resources in fiscal year 2003, and covers all organizations that may apply for support under the National and Community Service Act of 1990, as amended, and the Domestic Volunteer Service Act of 1973, as amended. This guidance will set requirements upon organizations applying for funds, and provide the criteria that will be used in evaluating applicants. The Corporation invites input on any topic covered by these guidelines, including items such as: preferences for funding; sustainability; and accountability measures. Please note that this Notice does not request comments on individual application forms used under the various programs of the Corporation. The Corporation periodically publishes separate requests for comments concerning such application forms. By way of example, please refer to the Corporation's Application Guidelines for 2002 at http://www.americorps.org/resources/guidelines2002.html.

DATES: To be considered, input must arrive at the Corporation no later than 5 p.m., Eastern Standard Time, on August 26, 2002.

ADDRESSES: Any input must be submitted to the Corporation at the following address: (a) via e-mail to gkowalczyk@cns.gov; or (b) via fax to Gary Kowalczyk at 202-565-2784; or (c) via letter, to: Corporation for National and Community Service, Attn: Gary Kowalczyk, 1201 New York Avenue NW., Washington, DC 20525. Due to continued delays in the Corporation's receipt of mail, individuals are strongly encouraged to respond via e-mail or fax. This notice may be requested in an alternative format for the visually impaired.

FOR FURTHER INFORMATION CONTACT: For further information, contact either Gary Kowalczyk at 202-606-5000 x340 (gkowalczyk@cns.gov) or Nancy Talbot at 202-606-5000 x470 (ntalbot@cns.gov). The TDD number is 202-565-2799.

Dated: July 17, 2002.
Gary Kowalczyk,
Coordinator, National Service Programs.

[FR Doc. 02-18450 Filed 7-19-02; 8:45 am]

BILLING CODE 6050-$$-P